OFFICE OF THE UNITED STATES TRADE REPRESENTATIVE

Draft Environmental Review of the Proposed U.S.-Chile Free Trade Agreement

AGENCY: Office of the United States Trade Representative.

ACTION: Notice and Comment on the Draft Environmental Review of the proposed U.S.-Chile Free Trade Agreement.

SUMMARY: The Office of the U.S. Trade Representative, through the Trade Policy Staff Committee, seeks comment on the draft environmental review of the proposed U.S.-Chile Free Trade Agreement. The draft environmental review is available at http://www.ustr.gov/environment/environmental.shtml.

DATES: Comments related to the draft environmental review are requested by Tuesday, November 20, 2001. Receipt of comments by such date will ensure timely input into the negotiations, which are scheduled to conclude in the month of December 2001. Please note that comments at the present time may only be sent by fax to (202) 395-5141 or by e-mail to FR002@ustr.gov.

FOR FURTHER INFORMATION CONTACT: Darci Vetter, Office of the U.S. Trade Representative, Environment and Natural Resources Section, telephone 202-395-7320.

SUPPLEMENTARY INFORMATION: The draft environmental review for the U.S.-Chile Free Trade Agreement was conducted pursuant to Executive Order 13141 on Environmental Review of Trade Agreements (64 FR 63169, Nov. 18, 1999) and its accompanying guidelines (65 FR 79442, Dec. 19, 2000), both of which are available at http://www.ustr.gov/environment/environmental.shtml. On December 14 of 2000, the Office of the U.S. Trade Representative requested public comments regarding the scope of the environmental review, including the potential environmental effects that might flow from the free trade agreement and the potential implications for environmental laws and regulations (65 FR 78077, Dec. 14, 2000). A final environmental review will be made publicly available following the conclusion of the U.S.-Chile Free Trade Agreement negotiations.

Carmen Suro-Bredie,
Chair, Trade Policy Staff Committee.

[FR Doc. 01-28098 Filed 11-5-01; 2:51 pm]

BILLING CODE 3190-01-M